DEPARTMENT OF TRANSPORTATION

Federal Aviation Administration

14 CFR Part 39

[Docket No. FAA-2024-2556; Project Identifier MCAI-2024-00247-T]

RIN 2120-AA64

Airworthiness Directives; Airbus SAS Airplanes

AGENCY: Federal Aviation Administration (FAA), DOT.

ACTION: Supplemental notice of proposed rulemaking (SNPRM).

SUMMARY: The FAA is revising a notice of proposed rulemaking (NPRM) that applied to certain Airbus SAS Model A300 series airplanes; Model A300 B4-600, B4-600R, and F4-600R series airplanes, and Model A300 C4-605R Variant F airplanes (collectively called Model A300-600 series airplanes); and Model A310 series airplanes. This action revises the NPRM by adding airplanes to the applicability. The FAA is proposing this airworthiness directive (AD) to address the unsafe condition on these products. Since this action would impose an additional burden over those in the NPRM, the FAA is requesting comments on this SNPRM.

DATES: The FAA must receive comments on this SNPRM by June 20, 2025.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-2556; or in person at Docket Operations between 9 a.m. and 5 p.m., Monday through Friday, except Federal holidays. The AD docket contains the NPRM, this SNPRM, the mandatory continuing airworthiness information (MCAI), any comments received, and other information. The street address for Docket Operations is listed above.

Material Incorporated by Reference:

• For European Union Aviation Safety Agency (EASA) material identified in this proposed AD, contact EASA, Konrad-Adenauer-Ufer 3, 50668 Cologne, Germany; telephone +49 221 8999 000; email ADs@easa.europa.eu. You may find this material on the EASA website at ad.easa.europa.eu. It is also available at regulations.gov under Docket No. FAA-2024-2556.

• You may view this material at the FAA, Airworthiness Products Section, Operational Safety Branch, 2200 South 216th St., Des Moines, WA. For information on the availability of this material at the FAA, call 206-231-3195.

FOR FURTHER INFORMATION CONTACT: Courtney Tuck, Aviation Safety Engineer, FAA, 2200 South 216th St., Des Moines, WA 98198; phone: 206-231-3986; email: courtney.k.tuck@faa.gov.

SUPPLEMENTARY INFORMATION:

Comments Invited

The FAA invites you to send any written relevant data, views, or arguments about this proposal. Send your comments to an address listed under the ADDRESSES section. Include “Docket No. FAA-2024-2556; Project Identifier MCAI-2024-00247-T” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this SNPRM.

Confidential Business Information

CBI is commercial or financial information that is both customarily and actually treated as private by its owner. Under the Freedom of Information Act (FOIA) (5 U.S.C. 552), CBI is exempt from public disclosure. If your comments responsive to this SNPRM contain commercial or financial information that is customarily treated as private, that you actually treat as private, and that is relevant or responsive to this SNPRM, it is important that you clearly designate the submitted comments as CBI. Please mark each page of your submission containing CBI as “PROPIN.” The FAA will treat such marked submissions as confidential under the FOIA, and they will not be placed in the public docket of this SNPRM. Submissions containing CBI should be sent to Courtney Tuck, Aviation Safety Engineer, FAA, 2200 South 216th St., Des Moines, WA 98198; phone: 206-231-3986; email: courtney.k.tuck@faa.gov. Any commentary that the FAA receives which is not specifically designated as CBI will be placed in the public docket for this rulemaking.

Background

The FAA issued an NPRM to amend 14 CFR part 39 by adding an AD that would apply to certain Airbus SAS Model A300 series airplanes; Model A300-600 series airplanes; and Model A310 series airplanes. The NPRM published in the Federal Register on December 13, 2024 (89 FR 100926). The NPRM was prompted by AD 2024-0092R1, dated July 10, 2024 (EASA AD 2024-0092R1) (also referred to as the MCAI), issued by EASA, which is the Technical Agent for the Member States of the European Union. EASA AD 2024-0092R1 states that investigations found cracks on the main deck cargo door (MDCD) actuator bearing fitting caused by fatigue. There is no unsafe condition during flight when the cargo door is fully closed, latched, and locked. However, if not detected and corrected, this cracking could lead to MDCD undamped free fall from the open position during MDCD operations or during cargo loading/off-loading, resulting in injury to people on the ground.

In the NPRM, the FAA proposed to require an operational limitation to the MDCD opening angle, repetitive detailed visual inspections of the MDCD actuator bearing fittings, and replacement if any cracks are found.

Actions Since the NPRM Was Issued

Since the FAA issued the NPRM, the FAA has determined the applicability of the proposed AD must be revised to add airplanes. The applicability of EASA AD 2024-0092R1 includes airplanes modified in accordance with EASA supplemental type certificate (STC) 10014779 (any revision), EASA STC 10013945 (any revision), or EASA STC 10013960 (any revision). The FAA has determined those EASA STCs correspond to FAA STCs ST00177LA-D, STC ST00178LA-D, STC ST01431NY, and STC ST00100NY. Therefore, the FAA has revised paragraph (c) of the proposed AD to also include airplanes modified in accordance with the FAA STCs.

The FAA is proposing this AD to address the unsafe condition on these products.

You may examine the MCAI in the AD docket at regulations.gov under Docket No. FAA-2024-2556.

Comments

The FAA received comments from Air Line Pilots Association, International (ALPA), who supported the NPRM without change. The FAA also received comments from United Parcel Service (UPS Airlines), who supported the NPRM and had an additional comment.

The FAA also received additional comments from FedEx Express. The following presents the comments received on the NPRM and the FAA's response to each comment.

Request To Withdraw the NPRM

FedEx Express requested that the NPRM be withdrawn for several reasons. First, FedEx Express requested that the NPRM be withdrawn until Airbus has provided a modification to limit the MDCD operation to 70 degrees. FedEx Express stated the operational limitation requirement will be difficult to monitor because door operators will not be prohibited from opening the MDCD to 145 degrees as Airbus does not provide any MDCD modifications to keep its 70-degree limitation. FedEx Express stated it, and other airlines, do not monitor door positions for cargo loading/unloading operations, and cargo loading personnel are permitted to use both 70- and 145-degree positions. FedEx Express also suggested that Airbus Alert Operators Transmission (AOT) A52W016-24, Revision 01, dated July 1, 2024, be revised to include a modification to limit the MDCD to 70 degrees so that FedEx Express and other airlines would not mistakenly violate the proposed AD when released.

Second, FedEx Express requested the NPRM be withdrawn until Airbus and the FAA provide a consistent wind speed operation for the MDCD. FedEx Express stated that Airbus AOT A52W016-24, Revision 01, dated July 1, 2024, specifies the MDCD cannot be operated at wind speeds equal to or greater than 40 knots. However, FedEx Express noted that Airbus aircraft maintenance manual (AMM) 52-36-00-00 permits the door to be operated at 40 knot wind speeds and furthermore, if the nose or tail of the airplane is put into the wind, the maximum wind speed can be 50 knots. FedEx Express stated the AMM specifies the door cannot be operated at wind speeds exceeding 60 knots, at which time the door must be closed immediately. Based on this information, FedEx Express concluded the documents have contradictory language and that differing wind speed limits could cause a regulatory burden on the airlines when following original equipment manufacturer standards. FedEx Express also suggested that the documents be revised to reflect a consistent wind speed operation on the MDCD.

Third, FedEx Express requested the NPRM be withdrawn until Airbus has provided an additional inspection procedure so that FedEx Express can detect cracks with more confidence. FedEx Express stated that the proposed method of inspection (i.e., a detailed visual inspection) is inadequate because it does not fully detect cracks in these fittings unless the forward and aft support bearings are removed. FedEx Express noted that the bearings have a housing assembly that covers the side of the fitting lug holes where it starts to crack. FedEx Express also suggested that Airbus AOT A52W016-24, Revision 01, dated July 1, 2024, be revised to include another set of inspection procedures that would require removing the MDCD door actuating mechanisms and bearings for inspection access. FedEx Express stated that the new inspection can be accomplished with an extended compliance time to schedule the airplane in a heavy check environment with proper tooling and personnel.

Finally, FedEx Express requested the NPRM be withdrawn until Airbus has provided a temporary repair procedure to bridge all airplanes with crack findings at the next C-check opportunity. FedEx Express stated Airbus informed operators it is studying an alternative temporary repair when a crack is found on these fittings that will bridge the airplane until its next C-check for fitting replacement. FedEx Express noted this will help all operators mitigate the operational burden and schedule the airplane to a suitable base location for fitting replacements.

The FAA does not agree with the request to withdraw the NPRM. To delay this proposed AD would be inappropriate, since the FAA has determined that an unsafe condition exists and that the actions required by this proposed AD must be conducted to ensure continued safety.

Regarding the request to wait until a modification is developed to limit the MDCD operation to 70 degrees, the FAA notes that Airbus is not planning a modification to block the door at max 70 degrees. The FAA points out that the MDCD opening/closing operation occurs as follows (as described in AMM 52-36-00): When the door toggle switch is pushed to the open position and held, the MDCD stops automatically at the 70-degree opening position and the indicator light comes on. The MDCD toggle switch needs to be released and pushed again to the open position to open the door beyond 70 degrees up to 145 degrees. Therefore, an inadvertent opening of the MDCD beyond a 70-degree opening angle is unlikely. During normal closing, the MDCD initially moves in the open direction for approximately 15 seconds so that the catch hook of the door actuator is released, so the doors slightly open above the 70-degree position. Then the MDCD moves automatically in the closed direction. However, for the purposes of this proposed AD, this short opening is not a deviation from the requirement to not open the door above 70 degrees. In regards to the commenter's statement that operators do not monitor door positions and that cargo loading personnel are permitted to use both 70- and 145-degree positions, the FAA notes that this proposed AD takes precedence over service information that is not mandated by an AD and the operator's current maintenance practices. In order to deviate from the requirements of the proposed AD, operators may request approval of an alternative method of compliance (AMOC) for the alternative actions under the provisions of paragraph (j)(1) of this proposed AD.

Regarding the request to wait until Airbus and the FAA have provided a consistent wind speed operation for the MDCD, the FAA acknowledges the documents specify different winds speeds. However, the AD takes precedence over service information that is not mandated by an AD. The FAA concurs that the manufacturer should revise its service information to align with the service information mandated by the proposed AD. For clarification, the manufacturer, not the FAA, revises service information.

Regarding the request to wait until Airbus has provided an additional inspection procedure, the FAA has determined that the detailed visual inspection addresses the unsafe condition and is an adequate means to detect a crack through the bearing fitting with no need to remove forward and aft support bearings. The FAA notes that even if there were a change to the inspection method, it would not justify a change to the inspection compliance times. However, any person may request approval of an AMOC for the inspection method or compliance time under the provisions of paragraph (j)(1) of this proposed AD.

Finally, regarding the request to wait until Airbus has provided a temporary repair procedure, the temporary repair is being studied by Airbus and stress computations are on-going. As such, the temporary repair is not yet available. However, under the provisions of paragraph (j)(1) of this proposed AD, the FAA will consider requests for approval of an AMOC for a temporary repair or alternative repair if sufficient data are submitted to substantiate that the repair would provide an acceptable level of safety.

Request for Addressing a Certain Condition

UPS Airlines requested that the proposed AD address the condition if the door is inadvertently opened beyond the 70-degree position. UPS Airlines stated that the proposed AD requires an operational limitation to 70 degrees of the MDCD opening angle. UPS Airlines further stated that Airbus AOT A52W016-24, Revision 01, dated July 1, 2024, allows opening the MDCD to the 145-degree (full-open) position and that there is no electrical or mechanical means to prevent the door from being opened beyond the 70-degree position. UPS Airlines recommended that the proposed AD specify actions if this happens and include a statement to accomplish the inspection mandated by the proposed AD within 10 days. UPS Airlines stated it currently inspects per Airbus AOT A52W016-24, Revision 01, dated July 1, 2024, if the MDCD is inadvertently opened beyond the 70-degree position, in addition to the normal 640 flight cycle inspection interval.

The FAA disagrees with the request because Note 1 of EASA AD 2024-0092R1 allows for exceeding the 70-degree position for a short period. However, in case the MDCD is opened beyond 70 degrees longer than a short period or an operator wants to deviate from this AD and allow opening the MDCD beyond 70 degrees, then the operator must request an AMOC under the provisions of paragraph (j)(1) of this proposed AD. The FAA has not changed this proposed AD in this regard.

Request for Extending the Compliance Time for Multiple Reasons

FedEx Express requested that the compliance times be extended for multiple reasons. First, FedEx Express requested an exception be added to paragraph (h) of the proposed AD that extends the compliance times due to this subject not being a safety of flight condition. FedEx Express stated it is concerned the proposed short inspection compliance times will place a great burden on the airlines, especially if a crack is found. FedEx Express noted that the crack on these fittings will not cause the door to fall because the MDCD door is supported with piano hinges hinged to the fuselage and by a door actuating mechanism that locks in the center. FedEx Express stated it has 45 Airbus airplanes above 13,000 flight cycles since the MDCD was installed and has had no adverse door operations observed with these airplanes. FedEx Express recommended the initial and repetitive inspections be revised to 1,000 flight cycles. FedEx Express concluded this will minimize the operational burden and allow scheduling the airplane to a suitable base location for inspections, including replacement of MDCD crack bearing fittings with proper tooling, workforce, and parts availability.

Second, FedEx Express requested extending the compliance time until Airbus secures all the replacement MDCD bearing fittings. FedEx Express stated the replacement of MDCD bearing fittings in case of findings would require a large number of fittings in stock to support all FedEx Express airplanes and other airlines affected by this proposed AD. FedEx Express stated that Airbus does not have enough spares of these fittings to support FedEx Express and other operators.

Finally, FedEx Express requested extending the compliance time until Airbus ensures associated replacement parts are in stock. FedEx Express stated it has concerns about associated parts availability upon replacing these MDCD bearing fittings when a crack is found. FedEx Express stated that Airbus has low stock of most of the door actuating mechanism parts attached to these bearing fittings, which might also require replacement, e.g., bearings, support housings, bolts etc. FedEx Express stated these parts are not secured in stock and are difficult to procure currently from Airbus. FedEx Express provided an example of a bearing that has a lead time of 194 days. FedEx Express recommended extending the compliance time to a heavy check threshold.

The FAA does not agree with the commenter's request to extend the compliance time. Regarding the statement that there is not an unsafe condition, the FAA notes that the commenter's reasoning that “the crack on these fittings will not cause the door to fall because the MDCD door is supported with piano hinges hinged to the fuselage and by a door actuating mechanism that locks in the center” is not correct because when the connection of the 2 bearing housings to the bearing fittings is lost then the door moves down. The piano hinge does not prevent the MDCD from moving down because it has only the function to attach the door to the fuselage and allows a rotational motion. The actuation mechanism is equipped with a catching hook, which is located directly on the actuator. The function of the catching hook is only to prevent the MDCD closing if no hydraulic pressure is present. If both bearing housings detach from the bearing fittings there is nothing to prevent the door from moving down and this could lead to an undamped freefall of the MDCD in a worst case. Thus, as specified in this proposed AD, an unsafe condition exists and must be addressed within the compliance times specified in this proposed AD.

Regarding the availability of replacement bearing fittings, the FAA has confirmed with Airbus that there is sufficient stock of bearing fittings. Regarding the availability of associated replacement parts, the FAA confirmed with Airbus that it is actively securing stock for those parts. To the extent associated replacement parts may not exist to replace parts that fail the inspection requirements of this AD, the FAA cannot base its AD action on whether associated replacement parts are available or can be produced. While every effort is made to avoid grounding aircraft, the FAA must address the unsafe condition.

After considering the commenter's reasons, the FAA has determined that the compliance time, as proposed, represents an appropriate interval of time in which the required actions can be performed in a timely manner within the affected fleet, while still maintaining an adequate level of safety. However, under the provisions of paragraph (j)(1) of this proposed AD, the FAA will consider requests for approval of an extension of the compliance time if sufficient data is submitted to substantiate that the new compliance time would provide an acceptable level of safety. The FAA has not changed this AD in this regard.

Request for Extending the Compliance Time Due to Operational Costs

FedEx Express requested extending the compliance time because of the operational burden it will bring on operators once a crack is found. FedEx Express stated the 500 work-hours stated in Airbus AOT A52W016-24, Revision 01, dated July 1, 2024, is only an Airbus estimate based on the assumption that only MDCD fittings are replaced and does not include any damaged parts attached to these fittings. FedEx Express stated that the vendor maintenance reported that the work-hours exceed more than 1,000 work-hours depending on the damaged parts affected (e.g., bearings, housings, frames etc.). FedEx Express asked the FAA to evaluate the works-hours.

The FAA notes that the 500 work-hours is an estimate for the bearing fitting replacement, which is required by the proposed AD if cracking is found. The cost information specified in the proposed AD describes only the direct costs of the specific actions required by this AD, i.e., inspecting and replacing bearing fittings if necessary. Based on the best data available, the manufacturer provided the number of work-hours necessary to do the required actions. The FAA recognizes that, in doing the actions required by an AD, operators might incur incidental costs in addition to the direct costs, such as replacing parts associated with the bearing fitting. The cost analysis in AD rulemaking actions, however, typically does not include incidental costs. Those incidental costs might vary significantly among operators. The FAA notes that Airbus is unable to provide or consider estimates on associated parts that are not required to be removed that might be damaged during replacement activities. In developing an appropriate compliance time for this action, the FAA considered the recommendations of the state of design authority, the urgency associated with the subject unsafe condition, the availability of required parts, and the practical aspect of accomplishing the required inspections within a period of time that corresponds to the normal scheduled maintenance for most affected operators.

Material Incorporated by Reference Under 1 CFR Part 51

EASA AD 2024-0092R1 specifies procedures for an operational limitation to the MDCD opening angle, repetitive detailed visual inspections of the MDCD actuator bearing fittings, and replacement of both MDCD actuator bearing fittings if any crack is found on any MDCD actuator bearing fitting.

This material is reasonably available because the interested parties have access to it through their normal course of business or by the means identified in the ADDRESSES section.

FAA's Determination

This product has been approved by the aviation authority of another country and is approved for operation in the United States. Pursuant to the FAA's bilateral agreement with this State of Design Authority, it has notified the FAA of the unsafe condition described in the MCAI referenced above. The FAA is issuing this SNPRM after determining that the unsafe condition described previously is likely to exist or develop in other products of the same type design.

Certain changes described above expand the scope of the NPRM. As a result, it is necessary to reopen the comment period to provide additional opportunity for the public to comment on this SNPRM.

Proposed AD Requirements in This SNPRM

This proposed AD would require accomplishing the actions specified in EASA AD 2024-0092R1 described previously, except for any differences identified as exceptions in the regulatory text of this proposed AD.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate EASA AD 2024-0092R1 by reference in the FAA final rule. This proposed AD would, therefore, require compliance with EASA AD 2024-0092R1 in its entirety through that incorporation, except for any differences identified as exceptions in the regulatory text of this proposed AD. Using common terms that are the same as the heading of a particular section in EASA AD 2024-0092R1 does not mean that operators need comply only with that section. For example, where the AD requirement refers to “all required actions and compliance times,” compliance with this AD requirement is not limited to the section titled “Required Action(s) and Compliance Time(s)” in EASA AD 2024-0092R1. Material required by EASA AD 2024-0092R1 for compliance will be available at regulations.gov under Docket No. FAA-2024-2556 after the FAA final rule is published.

Interim Action

The FAA considers that this proposed AD would be an interim action. If final action is later identified, the FAA might consider further rulemaking then.

Costs of Compliance

The FAA estimates that this AD, if adopted as proposed, would affect 243 airplanes of U.S. registry. The FAA estimates the following costs to comply with this proposed AD:

Estimated Costs for Required Actions
Labor cost | Parts cost | Cost per product | Cost on U.S. operators
1 work-hour × $85 per hour = $85 | $0 | $85 | $20,655

The FAA estimates the following costs to do any necessary on-condition actions that would be required based on the results of any required actions. The FAA has no way of determining the number of airplanes that might need this on-condition action:

Estimated Costs of On-Condition Actions
Labor cost | Parts cost | Cost per product
500 work-hours × $85 per hour = $42,500 | $34,600 | $77,100

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Airbus SAS: Docket No. FAA-2024-2556; Project Identifier MCAI-2024-00247-T.

(a) Comments Due Date

The FAA must receive comments on this airworthiness directive (AD) by June 20, 2025.

(b) Affected ADs

None.

(c) Applicability

This AD applies to the Airbus SAS airplanes identified in paragraphs (c)(1) through (6) of this AD, certified in any category, manufactured in freighter model configuration, or modified in accordance with supplemental type certificate (STC) ST00177LA-D, STC ST00178LA-D, STC ST01431NY, or STC ST00100NY.

(1) Model A300 B4-2C, B4-103, and B4-203 airplanes.

(2) Model A300 B4-601, B4-603, B4-620, and B4-622 airplanes.

(3) Model A300 B4-605R and B4-622R airplanes.

(4) Model A300 C4-605R Variant F airplanes.

(5) Model A300 F4-605R and F4-622R airplanes.

(6) Model A310-203, -204, -221, -222, -304, -322, -324, and -325 airplanes.

(d) Subject

Air Transport Association (ATA) of America Code 52, Doors.

(e) Unsafe Condition

This AD was prompted by investigations that found cracks on the main deck cargo door (MDCD) actuator bearing fitting caused by fatigue. The FAA is issuing this AD to address potential cracking of the MDCD actuator bearing fittings. The unsafe condition, if not addressed, could lead to MDCD undamped free fall from open position during MDCD operations or during cargo loading/off-loading, resulting in injury to people on the ground.

(f) Compliance

Comply with this AD within the compliance times specified, unless already done.

(g) Requirements

Except as specified in paragraphs (h) and (i) of this AD: Comply with all required actions and compliance times specified in, and in accordance with, European Union Aviation Safety Agency (EASA) AD 2024-0092R1, dated July 10, 2024 (EASA AD 2024-0092R1).

(h) Exceptions to EASA AD 2024-0092R1

(1) Where EASA AD 2024-0092R1 refers to April 26, 2024 (the effective date of the original issue of EASA AD 2024-0092R1), this AD requires using the effective date of this AD.

(2) This AD does not adopt the “Remarks” section of EASA AD 2024-0092R1.

(i) No Reporting Requirement

Although the material referenced in EASA AD 2024-0092R1 specifies to submit certain information to the manufacturer, this AD does not include that requirement.

(j) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the Manager, Continued Operational Safety Branch, send it to the attention of the person identified in paragraph (k) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, AIR-520, Continued Operational Safety Branch, FAA; or EASA; or Airbus SAS's EASA Design Organization Approval (DOA). If approved by the DOA, the approval must include the DOA-authorized signature.

(3) Required for Compliance (RC): Except as required by paragraph (j)(2) of this AD, if any material referenced in EASA AD 2024-0092R1 contains paragraphs that are labeled as RC, the instructions in RC paragraphs, including subparagraphs under an RC paragraph, must be done to comply with this AD; any paragraphs, including subparagraphs under those paragraphs, that are not identified as RC are recommended. The instructions in paragraphs, including subparagraphs under those paragraphs, not identified as RC may be deviated from using accepted methods in accordance with the operator's maintenance or inspection program without obtaining approval of an AMOC, provided the instructions identified as RC can be done and the airplane can be put back in an airworthy condition. Any substitutions or changes to instructions identified as RC require approval of an AMOC.

(k) Additional Information

For more information about this AD, contact Courtney Tuck, Aviation Safety Engineer, FAA, 2200 South 216th St., Des Moines, WA 98198; phone: 206-231-3986; email: courtney.k.tuck@faa.gov.

(l) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2024-0092R1, dated July 10, 2024.

(ii) [Reserved].

(3) For EASA material identified in this AD, contact EASA, Konrad-Adenauer-Ufer 3, 50668 Cologne, Germany; telephone +49 221 8999 000; email ADs@easa.europa.eu. You may find this material on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on May 1, 2025.
Victor Wicklund,
Deputy Director, Integrated Certificate Management Division, Aircraft Certification Service.

[FR Doc. 2025-07856 Filed 5-5-25; 8:45 am]

BILLING CODE 4910-13-P